DEPARTMENT OF ENERGY

Federal Energy Regulatory Commission

Notice of Effectiveness of Exempt Wholesale Generator Status

| Docket Nos.
River Ferry Solar I LLC | EG23-277-000
Bernard Creek Solar LLC | EG23-278-000
Borden County Battery Energy Storage System LLC | EG23-279-000
Cald BESS LLC | EG23-280-000
Castle Solar, LLC | EG23-281-000
Elektron Solar, LLC | EG23-282-000
Horseshoe Solar, LLC | EG23-283-000
Rocket Solar, LLC | EG23-284-000
Moraine Sands Wind Power, LLC | EG23-285-000
Earp Solar, LLC | EG23-286-000
BCD 2023 Fund 1 Lessee, LLC | EG23-287-000
Maverick Clean Energy Center, LLC | EG23-288-000
Harris Spencer BESS, LLC | EG23-289-000
Brazoria Winmil BESS, LLC | EG23-290-000
Harris CenterPoint BESS, LLC | EG23-291-000
South Energy Investments, LLC | EG23-293-000
Horizon Hill Wind, LLC | EG23-294-000
White Rock Wind East, LLC | EG23-295-000
White Rock Wind West, LLC | EG23-296-000
House Mountain LLC | EG23-297-000
Sky Ranch Solar, LLC | EG23-298-000
Hardin Solar Energy II LLC | EG23-299-000
Proxima Solar, LLC | EG23-300-000
Midland Wind, LLC | EG23-301-000
Sierra Estrella Energy Storage LLC | EG23-302-000
Superstition Energy Storage LLC | EG23-303-000
Cane Creek Solar, LLC | EG23-304-000
PGR 2022 Lessee 4, LLC | EG23-305-000
Canyon Wind Energy, LLC | EG23-306-000
Roadrunner Crossing Wind Farm, LLC | EG23-307-000
Lone Star Solar, LLC | EG23-308-000
MS Solar 6, LLC | EG23-309-000

Take notice that during the month of November 2023, the status of the above-captioned entities as Exempt Wholesale Generators became effective by operation of the Commission's regulations. 18 CFR 366.7(a) (2022).

Dated: December 6, 2023.
Kimberly D. Bose,
Secretary.

[FR Doc. 2023-27223 Filed 12-11-23; 8:45 am]

BILLING CODE 6717-01-P